DEPARTMENT OF HEALTH AND HUMAN SERVICES

42 CFR Part 84

[Docket No. CDC-2013-0017; NIOSH-250]

Development of Inward Leakage Standards for Half-Mask Air-Purifying Particulate Respirators

AGENCY: Centers for Disease Control and Prevention, HHS.

ACTION: Reopening of comment period.

SUMMARY: On September 17, 2013, the National Institute for Occupational Safety and Health (NIOSH) of the Centers for Disease Control and Prevention (CDC) located within the Department of Health and Human Services (HHS) held a public meeting concerning inward leakage performance requirements for the class of NIOSH-certified non-powered air-purifying particulate respirators approved as half-facepiece respirators for protection from particulate-only hazards. The purpose of this meeting was to share information and to seek stakeholder feedback, in identified topic areas, concerning the development of inward leakage performance standards. Questions concerning the identified topics of specific interest were included in the meeting notice published in the Federal Register on September 4, 2013. Written comments were to be received by October 18, 2013. HHS/CDC received a request from a stakeholder for additional time to comment on this notice. In consideration of this request HHS/CDC is reopening the public comment period through December 31, 2013.

DATES: Stakeholder comments to the questions included in the notice of September 4, 2013 (78 FR 54432) must be received by 11:59 p.m. ET on December 31, 2013.

ADDRESSES: You may submit comments by either of the following methods:

• Federal eRulemaking Portal: http://www.regulations.gov. Follow the instructions for submitting comments.

• Mail: NIOSH Docket Office, Robert A. Taft Laboratories, MS-C34, 4676 Columbia Parkway, Cincinnati, OH 45226.

Instructions: All submissions received must include the agency name (Centers for Disease Control and Prevention, HHS) and docket number (CDC-2013-0017; NIOSH-250). All relevant comments, including any personal information provided, will be posted without change to http://www.regulations.gov.

Docket: For access to the docket to read background documents and submitted comments, go to http://www.regulations.gov.

FOR FURTHER INFORMATION CONTACT: Colleen Miller, NIOSH National Personal Protective Technology Laboratory (NPPTL), 626 Cochrans Mill Road, Pittsburgh, PA 15236; (412) 386-4956 (this is not a toll free number) or email csmiller1@cdc.gov.

SUPPLEMENTARY INFORMATION: Questions for stakeholders regarding the development of inward leakage performance standards for half-mask air-purifying particulate respirators were published in the Federal Register on September 4, 2013 (78 FR 54432).

Kathleen Sebelius,
Secretary, Department of Health and Human Services.

[FR Doc. 2013-27445 Filed 11-18-13; 8:45 am]

BILLING CODE 4163-19-P